DEPARTMENT OF THE INTERIOR

National Park Service

[NPS-WASO-NAGPRA-NPS0032656; PPWOCRADN0-PCU00RP14.R50000]

Notice of Intent To Repatriate Cultural Items: California State University, Sacramento, Sacramento, CA

AGENCY: National Park Service, Interior.

ACTION: Notice.

SUMMARY: California State University, Sacramento in consultation with the appropriate Indian Tribes or Native Hawaiian organizations, has determined that the cultural items listed in this notice meet the definition of unassociated funerary objects. Lineal descendants or representatives of any Indian Tribe or Native Hawaiian organization not identified in this notice that wish to claim these cultural items should submit a written request to the California State University, Sacramento. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the California State University, Sacramento at the address in this notice by October 27, 2021.

FOR FURTHER INFORMATION CONTACT: Dr. Dianne Hyson, Dean of the College of Social Sciences and Interdisciplinary Studies, California State University, Sacramento, 6000 J Street, Sacramento, CA 95819, telephone (916) 278-6504, email dhyson@csus.edu.

SUPPLEMENTARY INFORMATION: Notice is here given in accordance with the Native American Graves Protection and Repatriation Act (NAGPRA), 25 U.S.C. 3005, of the intent to repatriate cultural items under the control of the California State University, Sacramento, Sacramento, CA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On March 15, 2011, unassociated funerary objects from site CA-SAC-16 in Sacramento County, CA, were listed in a Notice of Intent to Repatriate published in the Federal Register (76 FR 14049-14050, March 15, 2011). Subsequently, these unassociated funerary objects were repatriated to the Shingle Springs Band of Miwok Indians, Shingle Springs Rancheria (Verona Tract), California.

Following repatriation of the objects listed in the 2011 notice, 290 additional unassociated funerary objects were found in the Anthony Zallio collection. Zallio, a local amateur archeologist who collected in the area during the 1920-30s, donated his collection to California State University, Sacramento. The 290 unassociated funerary objects are 269 shell beads, four shell ornaments, and 17 projectile points.

Following repatriation of the objects listed in the 2011 notice, three additional unassociated funerary objects were found among the materials recovered during the 1953 Sacramento State College excavations directed by Dr. Richard Reeve. The three unassociated funerary objects are three shell beads.

Following repatriation of the objects listed in the 2011 notice, two additional unassociated funerary objects were found among the materials recovered during the 1960s American River College excavations directed by Charles Gebhardt. This collection was transferred from American River College to California State University Sacramento at an unknown date. The two unassociated funerary objects are one worked shell with ochre and one modified bone.

Following repatriation of the objects listed in the 2011 notice, an additional 98 unassociated funerary objects were found among the materials recovered during the 1971 Sacramento State College excavations led by Ann Peak. The 98 unassociated funerary objects are 89 vertebrate remains, one shell bead, one invertebrate remain, one groundstone fragment, one thermally altered rock, one lot of charcoal, one obsidian projectile point, one modified bone, and two pieces of baked clay.

Temporally diagnostic artifacts recovered from CA-SAC-16 indicate that the site was used from the Middle Horizon until the early Historic Period. Linguistic evidence suggests that ancestral-Penutian speaking groups related to modern day Miwok, Nisenan, and Patwin groups occupied the region during the Middle (550 B.C.-A.D. 1100) and Late (A.D. 1100-Historic) Horizons. Ethnohistoric and ethnographic sources indicate that the site was most likely historically occupied by Nisenan-speaking groups. In summary, officials of California State University, Sacramento reasonably believe that the ethnographic, historical, and geographical evidence indicates that the historic burials and cultural items recovered from Site CA-SAC-16 are most closely affiliated with contemporary descendants of the Nisenan and are more distantly related to neighboring groups, such as the Plains Miwok and Patwin.

Determinations Made by California State University, Sacramento

Officials of the California State University, Sacramento have determined that:

• Pursuant to 25 U.S.C. 3001(3)(B), the 393 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Shingle Springs Band of Miwok Indians, Shingle Springs Rancheria (Verona Tract), California.

Additional Requestors and Disposition

Lineal descendants or representatives of any Indian Tribe or Native Hawaiian organization not identified in this notice that wish to claim these cultural items should submit a written request with information in support of the claim to Dr. Dianne Hyson, California State University, Sacramento, 6000 J Street, Sacramento, CA 95819, telephone (916) 278-6504, email dhyson@csus.edu, by October 27, 2021. After that date, if no additional requestors have come forward, transfer of control of the unassociated funerary objects to the Shingle Springs Band of Miwok Indians, Shingle Springs Rancheria (Verona Tract), California may proceed.

California State University, Sacramento is responsible for notifying the Shingle Springs Band of Miwok Indians, Shingle Springs Rancheria (Verona Tract), California that this notice has been published.

Dated: September 21, 2021.
Melanie O'Brien,
Manager, National NAGPRA Program.

[FR Doc. 2021-20914 Filed 9-24-21; 8:45 am]

BILLING CODE 4312-52-P